DEPARTMENT OF ENERGY

Federal Energy Regulatory Commission

Combined Notice of Filings

Take notice that the Commission has received the following Natural Gas Pipeline Rate and Refund Report filings:

Filings Instituting Proceedings

Docket Numbers: RP12-499-000.

Applicants: Texas Gas Transmission, LLC.

Description: SW 27019 & 27435 Short-term Amendments to Negotiated Rate Agreements to be effective 3/20/2012.

Filed Date: 3/19/12.

Accession Number: 20120319-5138.

Comments Due: 5 p.m. ET 4/2/12.

Docket Numbers: RP12-500-000.

Applicants: Natural Gas Pipeline Company of America LLC.

Description: JP Morgan Negotiated Rate Filing to be effective 9/30/2010.

Filed Date: 3/19/12.

Accession Number: 20120319-5181.

Comments Due: 5 p.m. ET 4/2/12.

Docket Numbers: RP12-501-000.

Applicants: Natural Gas Pipeline Company of America LLC.

Description: Tenaska Negotiated Rate Filing to be effective 4/1/2012.

Filed Date: 3/19/12.

Accession Number: 20120319-5195.

Comments Due: 5 p.m. ET 4/2/12.

Docket Numbers: RP12-502-000.

Applicants: Hardy Storage Company, LLC.

Description: Request for Limited Waiver of Filing Date for Annual Retainage Adjustment Mechanism filing for Hardy Storage Company, LLC under RP12-502.

Filed Date: 3/20/12.

Accession Number: 20120320-5123.

Comments Due: 5 p.m. ET 3/27/12.

Docket Numbers: RP12-503-000.

Applicants: CenterPoint Energy Gas Transmission Company, LLC.

Description: CenterPoint Energy Gas Transmission Company, LLC submits tariff filing per 154.204: PTP Tariff Filing to be effective 5/1/2012.

Filed Date: 3/21/12.

Accession Number: 20120321-5018.

Comments Due: 5 p.m. ET 4/2/12.

Docket Numbers: RP12-504-000.

Applicants: Texas Eastern Transmission, LP.

Description: Texas Eastern Transmission, LP submits tariff filing per 154.204: NJR Negotiated Rate—eff. 4-1-2012 to be effective 4/1/2012.

Filed Date: 3/21/12.

Accession Number: 20120321-5028.

Comments Due: 5 p.m. ET 4/2/12.

Docket Numbers: RP12-505-000.

Applicants: Ozark Gas Transmission, L.L.C.

Description: Ozark Gas Transmission, L.L.C. submits tariff filing per 154.204: Negotiated Rate—SW Energy—contract 820131 to be effective 4/1/2012.

Filed Date: 3/21/12.

Accession Number: 20120321-5046.

Comments Due: 5 p.m. ET 4/2/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP12-387-001.

Applicants: Dominion Transmission, Inc.

Description: DTI—February 17, 2012 Form of Service Agreement Revision Compliance to be effective 3/19/2012.

Filed Date: 3/20/12.

Accession Number: 20120320-5102.

Comments Due: 5 p.m. ET 4/2/12.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: March 21, 2012.
Nathaniel J. Davis, Sr.,
Deputy Secretary

[FR Doc. 2012-7781 Filed 3-30-12; 8:45 am]

BILLING CODE 6717-01-P